DEPARTMENT OF DEFENSE

Department of the Navy

[Docket ID: USN-2021-HQ-0009]

Proposed Collection; Comment Request

AGENCY: Chief of Navy Personnel, OPNAV N1, Department of Defense (DoD).

ACTION: Information collection notice.

SUMMARY: In compliance with the Paperwork Reduction Act of 1995, the Chief of Navy Personnel, OPNAV N1, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 26, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV N1, Department of the Navy, 701 Courthouse Road, Arlington, VA, 22204, ATTN: Richard Linton, Ph.D. or call 703-604-6058.

SUPPLEMENTARY INFORMATION: Title; Associated Form; and OMB Number: Navy Health of the Force Survey, OMB Control Number 0703-0079.

Needs and Uses: The Navy Health of the Force Survey is a strategic level engagement survey of the Navy Active Duty population that addresses core measures relating to the health of the force and addresses emergent issues of interest to Navy leadership. The survey will provide answers to important questions for Navy leadership including: Sailor job satisfaction, retention plans, and influences to stay or leave; value of different incentives for extended sea duty; sailor well-being including quality and amount of sleep, prevalence of burnout, stress and sources of stress; sailors' commitment to the organization and sense of unit cohesion.

Affected Public: Navy Active Duty Personnel.

Annual Burden Hours: 5,417 hours.

Number of Respondents: 13,000.

Responses per Respondent: 1.

Annual Responses: 13,000.

Average Burden per Response: 25 minutes.

Frequency: Once.

Dated: September 21, 2021.
Aaron T. Siegel,
Alternate OSD Federal Register Liaison Officer, Department of Defense.

[FR Doc. 2021-20930 Filed 9-24-21; 8:45 am]

BILLING CODE 3810-FF-P